DEPARTMENT OF HEALTH AND HUMAN SERVICES

Public Meeting of the Presidential Commission for the Study of Bioethical Issues

AGENCY: Department of Health and Human Services, Office of Public Health and Science, The Presidential Commission for the Study of Bioethical Issues.

ACTION: Notice.

SUMMARY: The Presidential Commission for the Study of Bioethical Issues (Amy Gutmann, PhD, Chair, and James Wagner, PhD, Vice Chair), will conduct its first meeting to discuss the implications of synthetic biology.

DATES: The meeting will take place Thursday, July 8, 2010, from 8:30 a.m. to 5 p.m., ET; and Friday, July 9, 2010, from 8:30 a.m. to 11:45 a.m., ET.

ADDRESSES: The Ritz-Carlton, 1150 22nd Street, NW., Washington, DC 20037. Phone 202-835-0500.

FOR FURTHER INFORMATION CONTACT: Ms. Diane M. Gianelli, Acting Executive Director, The Presidential Commission for the Study of Bioethical Issues, 1425 New York Avenue, NW., Suite C-100, Washington, DC 20005. Telephone: 202/233-3960. E-mail: info@bioethics.gov. Web site: http://www.bioethics.gov.

SUPPLEMENTARY INFORMATION: The meeting agenda will be posted at http://www.bioethics.gov. The Commission encourages public comment, either in person or in writing. Interested members of the public may address the Commission at select times to be announced at the meeting. Comments are limited to no more than five minutes per speaker or organization. As a courtesy, please inform Ms. Diane M. Gianelli, Acting Executive Director, in advance, of your intention to make a public statement, and give your name and affiliation. To submit a written statement, mail or e-mail it to Ms. Gianelli at one of her contact addresses given above.

Dated: June 9, 2010.
Diane M. Gianelli,
Acting Executive Director, The Presidential Commission for the Study of Bioethical Issues.

[FR Doc. 2010-14577 Filed 6-16-10; 8:45 am]

BILLING CODE 4154-06-P